DEPARTMENT OF THE INTERIOR

Fish and Wildlife Service

[FWS-R4-ES-2010-N037; 40120-1113-0000-C4]

Endangered and Threatened Wildlife and Plants; 5-Year Status Review of Roseate Tern

AGENCY: Fish and Wildlife Service, Interior.

ACTION: Notice of status review; request for information; clarification.

SUMMARY: We, the U.S. Fish and Wildlife Service (Service), are clarifying a prior published notice regarding our 5-year status review for the roseate tern (Sterna dougalli dougalli) under the Endangered Species Act of 1973, as amended (Act). We conduct these reviews to ensure that the classification of species as threatened or endangered on the Lists of Endangered and Threatened Wildlife and Plants is accurate. The prior notice indicated that we are conducting a status review of only the northeastern population of the roseate tern; we are actually conducting a status review of this species throughout the entire area where it is listed.

DATES: To allow us adequate time to conduct this review, we must receive your comments or information on or before June 4, 2010. However, we will continue to accept new information about any listed species at any time.

ADDRESSES: To submit information on the roseate tern or review information that we receive, contact the appropriate address:

• Roseate tern where listed as endangered: New England Field Office, U.S. Fish and Wildlife Service, 70 Commercial Street, Suite 300, Concord, New Hampshire 03301.

• Roseate tern where listed as threatened: Caribbean Field Office, U.S. Fish and Wildlife Service, P.O. Box 491, Boquerón, Puerto Rico 00622.

FOR FURTHER INFORMATION CONTACT: For information on the roseate tern where listed as endangered, contact Michael Amaral of the New England Field Office (see address above): Phone: 603-223-2541, ext. 23; e-mail: michael_amaral@fws.gov.

For information on the roseate tern where listed as threatened, contact Marelisa Rivera of the Caribbean Field Office (see address above): Phone: 787-851-7297, ext. 231; e-mail: marelisa_rivera@fws.gov.

SUPPLEMENTARY INFORMATION:

Background

Under the Act (16 U.S.C. 1531 et seq.), we maintain lists of endangered and threatened wildlife and plant species in the Code of Federal Regulations (CFR) at 50 CFR 17.11 (for wildlife) and 17.12 (for plants) (collectively referred to as the List). Section 4(c)(2)(A) of the Act requires that we conduct a review of listed species at least once every 5 years. Then, on the basis of such reviews, under section 4(c)(2)(B), we determine whether or not any species should be removed from the List (delisted), or reclassified from endangered to threatened or from threatened to endangered.

If we consider delisting a species, we must support the action by the best scientific and commercial data available. We must consider if these data substantiate that the species is neither endangered nor threatened for one or more of the following reasons: (1) The species is considered extinct; (2) the species is considered to be recovered; and/or (3) the original data available when the species was listed, or the interpretation of such data, were in error. Any change in Federal classification would require a separate rulemaking process. Our regulations at 50 CFR 424.21 require that we publish a notice in the Federal Register announcing those species currently under our active review.

The roseate tern is currently listed at 50 CFR 17.11(h) as endangered in the United States along the Atlantic Coast south to North Carolina, Canada (in Newfoundland, Nova Scotia, and Quebec), and Bermuda. The roseate tern is listed as threatened in the Western Hemisphere and adjacent oceans, including Florida, Puerto Rico, and the Virgin Islands, where it is not listed as endangered. On December 16, 2008, we initiated a status review of several species, including the roseate tern in the Northeast (Connecticut, Maine, Massachusetts, New Jersey, New York, North Carolina, Rhode Island, and Virginia) (73 FR 76373). The purpose of this notice is to announce our active review of the roseate tern (Sterna dougalli dougalli) in its entire listed range.

What Information Do We Consider in a 5-Year Review?

A 5-year review considers the best scientific and commercial data that have become available since the current listing determination or most recent status review of each species, such as:

A. Species biology, including but not limited to population trends, distribution, abundance, demographics, and genetics;

B. Habitat conditions, including but not limited to amount, distribution, and suitability;

C. Conservation measures that have been implemented to benefit the species;

D. Threat status and trends (see five factors under heading “How do we determine whether a species is endangered or threatened?”); and

E. Other new information, data, or corrections, including but not limited to taxonomic or nomenclatural changes, identification of erroneous information contained in the List, and improved analytical methods.

Definitions Related to This Notice

A. Species includes any species or subspecies of fish, wildlife, or plant, and any distinct population segment of any species of vertebrate which interbreeds when mature.

B. Endangered means any species that is in danger of extinction throughout all or a significant portion of its range.

C. Threatened means any species that is likely to become an endangered species within the foreseeable future throughout all or a significant portion of its range.

How Do We Determine Whether a Species Is Endangered or Threatened?

Section 4(a)(1) of the Act establishes that we determine whether a species is endangered or threatened based on one or more of the following five factors:

A. The present or threatened destruction, modification, or curtailment of its habitat or range;

B. Overutilization for commercial, recreational, scientific, or educational purposes;

C. Disease or predation;

D. The inadequacy of existing regulatory mechanisms; or

E. Other natural or manmade factors affecting its continued existence.

What Could Happen as a Result of This Review?

If we find that there is new information concerning the roseate tern indicating that a change in classification may be warranted, we may propose a new rule that could do one of the following: (a) Reclassify the species from endangered to threatened (downlist); (b) reclassify the species from threatened to endangered (uplist); or (c) delist the species. If we determine that a change in classification is not warranted, then the species will remain on the List under its current status.

Request for New Information

We request any new information concerning the status of the roseate tern. See “What information do we consider in a 5-year review?” heading for specific criteria. Information submitted should be supported by documentation such as maps, bibliographic references, methods used to gather and analyze the data, and/or copies of any pertinent publications, reports, or letters by knowledgeable sources.

Public Availability of Comments

Before including your address, phone number, e-mail address, or other personal identifying information in your comment, you should be aware that the entire comment—including your personal identifying information—may be made publicly available at any time. While you can ask us in your comment to withhold your personal identifying information from public review, we cannot guarantee that we will be able to do so.

Authority: We publish this document under the authority of the Endangered Species Act (16 U.S.C. 1531 et seq.).

Dated: February 25, 2010.
Patrick Leonard,
Acting Regional Director, Southeast Region.

[FR Doc. 2010-7709 Filed 4-2-10; 8:45 am]

BILLING CODE 4310-55-P